DEPARTMENT OF THE TREASURY

Internal Revenue Service

Quarterly Publication of Individuals, Who Have Chosen To Expatriate, as Required by Section 6039G

AGENCY: Internal Revenue Service (IRS), Treasury.

ACTION: Notice.

SUMMARY: This notice is provided in accordance with IRC section 6039G of the Health Insurance Portability and Accountability Act (HIPAA) of 1996, as amended. This listing contains the name of each individual losing United States citizenship (within the meaning of section 877(a) or 877A) with respect to whom the Secretary received information during the quarter ending September 30, 2015. For purposes of this listing, long-term residents, as defined in section 877(e)(2), are treated as if they were citizens of the United States who lost citizenship.

Last name | First name | Middle name/initials
AAL-HUSSAIN | HUSSAIN | ABDULQADER
ABBOTT | BREANNE
ABNEY | BJORN | CHRISTOPHER
ABRAHAMS | VIVIAN | HARRIET
ABRAMS | DARYN | MELISSA
ABRAMS | JAYCEE
ABT | NIELS | ALEXANDER
ACCOLAD DE ANGELIS | CHRISTINA
ACHESON | NICHOLAS | HILL
AEBISCHER | DAVID
AELLIG | DANIEL | KRISTIAN
AERNI | ERNST
AESCHLIMANN | TAMMY | LEE
AGUIRRE | MIKITO | MICHAEL MIRASOL
AGUIRRE | MORIKO | MARTIN MIRASOL
AHN | BRADLEY
AILSBY | RONALD | LLOYD
AL GHANNAM | MOHAMMED | IBRAHIM
AL SAUD | SULTAN | FAISAL
AL SHEHA | ABDULLAH | FAISAL
AL-AHMED | DAN | ABDULAZIZ
AL-ANSARI | AFNAN | A
AL-ANSARI | SALSABEEL
AL-ATHEL | FELWAH | FAHAD
AL-ATHEL | RABIAH | FAHAD
AL-ATHEL | SAUD | ABDULAZIZ
AL-ATHEL | TURKI
AL-BALLAA | THAMMER | SALEH
ALBINGER | SARA | MEGAN
ALBRECHTSEN | FREDERIK
ALEXANDER | DANIEL
ALFAISAL | LOULOUAH | BANDAR
AL-GHAZALI | HAMED | SALAH
ALGORASHI | ESSAM | AHMED
ALHAJRI | SARAH | ABDULLAH
AL-HAMMAD | RAID | MOHAMMAD
ALHUSAINI | ABDULLAH | ABDULRAHMAN
AL-HUSAINI | MUADH | ABDULRAHMAN
ALI | AQEEB | YAZID
ALI | CHRISTINE | KAMINEE
ALKASSABI | ABDULAZIZ
ALLARD | ALAN | PIERRE
ALLENBACH | DAVID | EMMANUEL
ALMA | ELVA | BERNICE
ALMUTAIRI | MARZOUG | MOHAMMED
AL-OMAIR | SAHAR | ABDULAZIZ
AL-RASHED | MISHAL | ABDUL MOHSIN
AL-RASHID | SALMA | RASHID
ALREFAI | MURWAN | BADIR
AL-RODHAN | ZIAD | N
AL-ROOMI | BADER | HUMOOD
AL-SAHHAF | HUDA | TAHER
ALSAUD | HAYA | KHALED
ALSAUD | KHALID | BANDAR ALFAISAL
ALSAUD | SULTAN | KHALID
AL-SAUD | MAHA | TURKI
AL-SAUD | MISHAEL | TURKI
ALTENA | PIM | RUDOLF HERMAN
ALTRO | BONNIE
ALWARD | DAVID | NATHAN
AL-YAHYA | KHULOOD | OTHMAN
ALZABEN | ABDULRAHMAN | YOSEF
ALZAMIL | GHASSAN | HAMED
AL-ZAMIL | YASSER | H
AMMANN | HANNA | ELISABETH
ANDERSON | PAUL | I
ANDREADIS | EVANGELOS | C
ANDRIUK | ZACKARY | ROBERT
ANG | AUDREY | WEN-HUI
APPLEBY | SEAN
ARAMBATZIS-DOLDER | KATHERINE
ARIARAJAH | CHRISTINE | S
ARIYAMA | TOMOYO |
ARMSTRONG | BARBARA | ANNE
ASAKA | HIDEAKI
ASALS, JR | FREDERICK | JOHN
ATIN | MARK | DAVID
ATKINSON | WILLIAM | ARTHUR
ATWOOD | RICHARD | A
AUER | PETER | WERNER
AYALA | BEATRICE | KATERINA
AYRES | TARA | PATRICE
BAAYEN | ROLF | HARALD
BACH | ANDRE | ERIC
BAECHLER-AELLIG | KAREN | AMY
BAFFES | TRIANTAFILLIA | R
BAFFES AKA BAFES | ANTHONY
BAILEY | MICHAEL | HUGH SHELDON
BAILEY-HOWELL | CRYSTAL | JEAN
BAKER | AMANDA | LYNN
BAKKE | ELLEN | JOHANNE
BALL | BRIANNA | OLIVIA VALLIS
BALMA | EDDY | ALLAN
BANFI | CAMILLO | KURT HARRY
BANKES | ROSANNA | ELIZABETH
BAO | GANG
BARAJAKLY | MOHAMMED | RASHAD
BARANGE | NATHALIE
BARMAN | PHILIPPE | LUC EMILE
BARRY | SAMUEL | JAMES
BARTHOLDY | SAVANI
BARTON | JOHN | C
BASCH | EVA | MARIE
BAUER | CARLA | DARLENE
BAUMANN | HANSJUERG
BAUMANN | MARCUS | R
BEAR | JOHN | CHARLES
BECHELER-ROBERT | JOELLE | ANNE MARIE JOSEPH
BECKER | UTE
BECKERMANN | CLAIRE | MARGARET
BEER-PFISTER | ERIKA
BEERS-VOGEL | MARK | WILLIAM
BEHR | SUSAN | HELENE
BELDING | ADRIAN | PAUL EBBE CARL
BELL | FRANKLIN | DAVID
BELL | SAMUEL | GEORGE
BELTRAMETTI | GIULIANA | JEAN
BELTRAMETTI | LISA | ELIZABETH
BENNETT | ELANNA | AVIVA
BENSBERG | INGOMAR | CLEMENS
BEN-YOSEF | AVRAHAM | SIMCHA
BERGEN | LISA
BERGEN | PATRICK
BERGER | LINDA | VERA
BERGERON, JR | BARRY | DAVID
BERNAL | SARITA | ISABEL NUNEZ
BERNASCONI | MARCO | ENRICO
BERNASCONI | MAX |
BERNHARD | URS
BERUBE | LAURIE | CARROLL
BERUBE | PIERRE | RICHARD
BHANOT | ADITI | CHANDAVARKAR
BHARTIA | ARJUN | SHANKER
BHATT | SIMON | SHANTANU
BHUCHROEN | VANTANA
BHUPAL | SHRIYA
BIETENHOLZ | ALAN | P
BIRCHALL | CAROLYN | RUTH
BIRCHER | BETTINA | MAGDALENA
BIRD | PAUL | MILLER
BISHOP | DIANE | ALLISON
BISHOP | ROBERT | LANE
BLADH | MAGNUS | R
BLAIS | MICHEL | JEAN
BLARER | STEPHEN | JURG
BLASER | CHRISTIANE | MICHAELA
BLATTER | ERNST | K
BLATTER-RIEDER | ALINE
BLISS | BONNIE | JEAN
BLUM | SEBASTIEN | BERNARD
BODDEN | PATRICK | NORMAN
BODDY | ADRIAN | FRANKLIN
BODENHAUSEN | BARBARA | ALEXANDRA LUCIE
BOILARD | DANIELLE
BOILARD | MICHELE | SYLVIE
BOISVERT | MICHEL | S
BOLANDER | BROOK | WOODWARD RUTHVEN
BOLLER-HUBER | DANIELLE | MARIE BOLLER
BOLLETER | PETER | URS
BONVIN | CAROL | LEE
BOOTHMAN | ALEXI | MARIE
BOSISIO | MARIE | BEATRICE GINA
BOSSARD | PHILIPPE | FEI WEN
BOULOS | RUDOLP | HENRY
BOURK | CLAUDE
BOURRET | HELENE
BOVET | MARC | E
BOXEL | FRANCES | ALICE VAN
BRADNEY | KATHRYN | CECELIA
BRADSHAW | KAREN | STEPHANIE FULLER
BRAMLETT | SHOSHANNAH | LYNN
BRANTLY | CHARLES | FRANCIS
BRASEY | CHARLEEN
BRATT | YOEL | YAKOB
BREEN | BETHEL | LESLIE
BREM | MARIUS | JOSEPH
BRENNAN | BRIAN | MATTHEW
BREWERTON | RAYMOND | GEORGE
BREWIS | CLIVE | STEPHENSON
BRIGGS | NANCY | LAURA
BRIN | STEVE | RAPHAEL
BROMLEY | ANN | LENORE
BRONNER | MAURICE
BROWN | CAROL | LYNN
BROWN | DAVID | ALLEN
BROWN | FRANK | ROBERT
BROWN | RICHARD | JAMES
BROWN | ROBERTA | LOUISE
BRUCKHARDT | DANIEL | PETER
BRUNNER SCHMOCKER | JESSICA | RUTH
BUCHI | LIONEL | SIMOM ALVIN
BUDIMAN | ALEXANDER | ANDREW
BURCKHARDT-DUFOUR | JEANNE | LOUISE
BURGER | PETER
BURGI | STEPHANIE | ANDREA
BURKHARD | FIONA | C
BURSTEN | AMY | E
BURT | DAVID | LYNVAL ANDRUE
BUSCH | DENNIS | SCOTT
BUSCH | JAMES | WILLIAM ANLABY
BUSCH | PHILLIP | ALEXANDER
BUSH | KEVIN | JEROME
BUTEL | CAROLE
BUTEL | JEAN-LUC
BUTIKOFER | MAYA | S
BUXTON | ANNA |
BUXTON | FRANCIS
CALDWELL | RICHARD | LEE
CALLENDER | SARA | ELIZABETH
CAMERON | BRIAN | DOUGLAS
CAMPOS | BEATRIZ | SARMIENTO
CARAVAVATNA | PAIRAT
CAREY | ROBERTA | ELIZABETH
CARNES | JON | CLEMENS
CARON | NICHOLAS | PAUL ARTHUR
CARROLL | JUDITH | A
CASTELL | VICTORIA | ALBIOL
CASTILLO | ANA | CAROLINA
CASTRO-NETO | ANTONIO | HELIO
CATER | ADRIEN | S
CATTIN | CHRISTEL | RAPHAELA
CAYTAN | EILEEN | LAURA
CENDRA | NICOLAS | YANNICK
CHAI | PING | AN
CHAI | SONG | YI
CHAKRAVARTHI | RANGANATH
CHALAMET | MEGAN | ANNA
CHAMPIGNY | FRANCIS | HENRY
CHAN | ALBERT
CHAN | BILL | VAN
CHAN | BRIAN | HAUKIN
CHAN | DAVID | JIH HAO
CHAN | DENISE | KIMBERLEY
CHAN | JANET | SEI MIN
CHAN | JOHN | HOW MING
CHAN | KWAI | LUNG
CHAN | LOUISA | FUNG
CHAN | PETER | WAN-KONG
CHAN | RAYMOND | WAIMING
CHAN | SUSAN
CHAN | TANIA
CHANDLER | DANIEL | LOUIS
CHANDLER | MARTIN | ROWELL
CHANDLER | SONJA | KAY BERGE
CHANG | CHAE | SIM
CHANG | DANIEL | MINK
CHANG | JACK
CHANG | PAMELA | YI-HUEY
CHANG | TAU | KAI
CHANT | JANET | ROBBINS
CHAO | PACEY | CHUAN-PING
CHAO | STEVE | YUH
CHAPPUIS-WALKER | DOROTHY | GAY
CHARLESWORTH | KATHLEEN | MARIE
CHARLTON | LOUIS | SCOTT
CHAU | FANNY | KIT YEE
CHAU | YVONNE
CHEE | JACINDA
CHEETI | SAJJAN | RAO
CHEN | BING | NAN
CHEN | CAROLINE
CHEN | ELMER | YUE HSING
CHEN | ERIC | Y
CHEN | HASTING | GENAN
CHEN | LI | HUA CHUANG
CHEN | PIN
CHEN | ROBERT
CHEN | STEVE | SHIANG-FENG
CHEN | SUCHAW | L
CHEN | WEI | HON
CHEN | YUNG-CHI
CHENG | JAMES | VINCENT
CHENG | POLLY | PAI
CHENG | SABRINA | CHUNG WEI
CHENG | SIK | LING ELIZABETH
CHEUNG | WING | YEE TERRY
CHIA | MARK
CHIODO | SUZANNE | ERICA
CHIRATHIVAT | NARATTAH | BRADY
CHIU | GE-MING | PETER
CHIU | WEI | TING
CHO | JANET | INJI
CHO | SONG | NELIE
CHOI | DUKE | MINKEUNG
CHOI | JACOB | YUNSEOK
CHONG | HYUN | SOOK
CHOU | KAI | CHOW
CHOU | LING-TAI | LYNETTE
CHOU | WILLIAM
CHOW | DUEN | BOON DAVID
CHOW | EUGENE
CHOW | KENNETH | TZETIM
CHOW | PHYLLIPS | CHAPMAN
CHU | NICHOLAS | WEI KUN
CHU | PIN-CHIEH | DIANA
CHU | SVEN | STEVE
CHU | TIMOTHY | TING-MAN
CHUA | MELISSA | ZE LIN
CHUA | ZIJUN | JOY
CHUI | DEREK | TINYOL
CHUNG | CRYSTAL
CHUNG | DAVID | KWANGHYUN
CHUNG | JOE | SON
CHUNG | JUO | HUA
CHUNG | MIN | KEUN
CHUNG | YUN | JAE
CLARK | JASON | NIGEL
CLARK | LORAINE
CLAUSNITZER | WOLFGANG
CLELAND | SUSAN | GILBERT
CLEVELAND | CHRISTOPHER | LESLIE
CLOSE | DAVID | EARL
CLOSE | EARL | CHRISTIAN
CLOSE | JOANNE | ELIZABETH
COCHEZ | EDNA | BEATRIZ
COCHRAN | ALLEGRA | LAVINA
COCKETT | POLLY | LEE KNOWLTON
COLFELT | ANTHONY | JOHN
COLON-VONARX | RAPHAEL | LUIZ
COLVIN | AMELIA | ELAINE
COMOTTI | EMILIO | FELICE
COMPEAU | AZALEA | JACINDA
COMTE | CLAIRE
COMTE | PIERRE | ALBERT
CONANT | BERNADETTE | H
COOKE-REDDEL | BEVERLY
COPF | NADINE | SHEILA
COPIZ | DANILO | MANUELE
CORRIDAN | GEMMA | ELIZABETH
CORRIDAN | PATRICK | MICHAEL
CORWIN | PAUL | ALFRED
COTTER | WOLLIAM | RAYMOND
COVAL | SIMON | RAYMOND
COVINO | CHARLOTTE | JANE
COVINO | ROBERT | BRENDAN
COX | DAVID | ALLAN RACINE
CREMONA | THEODORE
CRETTON | PAUL | MAURICE
CRONK | SULADDA | JANVIRIYA
CUBIZOLLE | CEDRIC | MATHIAS UWE
CULHANE | KATHLEEN | MARY
CULLINANE | JEANNA | PARSONS
CUMMER | JEFFREY | ALAN
CUMMINS | STEPHEN | ALEXANDER
CUNNINGHAM | CHARLES | DOUGLAS DONALL M
CURRAT | CAROLINE | MELISSA
CUSACK | MILAGROS
CZAPLICKI-LUDZIK | MARY | ANN
D' ANCICCO | ANDREAS | STEPHEN
DAETWYLER | MARC | HENRY
DAFTARY | MALA-SONYA | SUMMANT
DANN | JOHN | WILLIAM
DASCHNER | KATRIN | ANNETTE
DASKO | NANCY
DASTE | NATHALIE | MARTINE MARIE
DAVIS | UDEL | BAYLA
DAY | PETER | JOSEPH
DAY | RACHEL | JANE
DAY | SYLVIA | ELISE
DAZZI | HEIDI | SUE
DE MESTRAL | OLIVIER | CHARLES
DE RUITER | NICOLAS | GERRIT PAULUS
DE SILVA | VANESSA | R
DE SOUSA PAIS | ANA | MARIA F. GONCALVES
DE SOUSA PAIS | NUNO | PEDRO DIAS COSTA
DECORGES | MICHELE | MARGARETE CHRISTINE
DELEZE | JULIETTE | ANN
DELLOYE | VICTORIA | CHRISTINE
DEMOTT | BARBARA | LOIS
DENCHFIELD | ROGER | JAMES
DENIER | SANDRA
DENIS | MARYSE | OLIVETTE
DERBAN | VANCE
DESBOROUGH | OLIVER | FREDDIE
DETWEILER | CHRISTOPHER | KELLY
DEVITT | LARA | NATASHA
DEVOS | BENEDICTE
DHANASOBHON | CHATURADA | CHARLENE
DI LULLO | CHRISTINE | ELIZABETH-ANDREA
DI TERLIZZI | ANGELA
DIABO | MICHAEL | FRANK
DIAL | DAVID | WACO
DIEBOLD | DANIEL | CLAUDE
DIESENDRUCK | DANIELA | LIEBESNY
DIESENDRUCK | DAVID | BARUCH
DIGBY | ROBERT | SAMUEL
DILKS | MARGARITA
DING | BUFAN
DING | HONG
DION | DENNIS | JOHN
DOAN | ISABELLE
DOBBIN | ERIN
DOBSON | STEPHANIE | LEANNE
DOERNER | KLAUS
DORP | DIETER
DOTY | MICHAEL | JOSEPH
DOUGLAS | MICHAEL | JAMES
DOUMONT | ANNE | ARLETTE-JEANNE
DOYLE | GARY | MICHAEL
DRACHOVA | IRENA
DRAPER | CLIFFORD | WILLIAM
DRAPER | PATRICE
DRAPER | PRISCILLA | DIANE
DROBOTT | MARCELLA | ELLEN
DROOKER | JAMES | BOBBIE HOFMANN
DUFFIELD | WENDY | TAYLOR
DUFFY | TERRENCE | PATRICK
DY, JR. | MANUEL | LUA
DYCK | CHELSEA | RAE
DZEBIC | ELDIN |
EADEH | CHRISTINE | LOUSE
EADEH | KATHERINE | ELIZABETH
EBEL | HARALD | MARTIN
EBERSOLE | HELENA | SUSANNA
EBERT | MARK | ERICH
EGLI | GABRIELA
EIBL | FABIAN
EICHEL | KALEIGH | A
EINSTEIN | ISABELLE | RAQUEL
ELLIN | VINCENT | GEORGE
ELLIOTT | CLARK
ELLIOTT | SUSAN | KAY
EMBRO | PATRICIA | ANN
ENDARA | SHYON | TUCKER
ENGEN | JASON | CLAYTON
EPP | ALEXANDRE | PATRICK
ERGIN | YAVUZ
ESTERMANN | JENNY | IRENE
EYHOLZER | GERALD | DAVID
EYHOLZER | ROGER | STEPHEN
EZRA | DAN |
FACCHINETTI | KIRA | MORGAN
FAIRFIELD-WHILLIANS | SANDRA | WENDY
FALLS | STEPHEN | PRESTON STANLEY
FAN | YIN | YEE
FANANY | DAVID | IZIAN
FANANY | ISMET
FANANY | REBECCA | YOUNGER
FANANY | RUNA | FITRI
FANTONI-WILKS | GEORGINA | H. D
FARHA | TAMMY | GHASSAN
FARKAS | CAROL | S
FEELY | ROBERT | JOHN
FEELY | TIMOTHY | GERARD
FEHLMANN | JURG | ANDREAS
FEHR | REGINA
FEISTMANN | FREDERICK | ALAN
FENICHEL | SHAURA | LYNNE
FERGUSSON | LINDA | JAN
FERNANDINI | ERNESTO | ALBERTO
FIERS | RUDI | WILLIAM OMER
FIGUERAS | MICHEL
FILE | PORTIA | EILEEN
FISCHER | ROGER | WALTER
FISCHER | STEPHANIE | WEILER
FITZPATRICK | THERESA | JUN
FLATLEY | MICHAEL | RYAN
FLETCHER | EMMA | NATALIE
FLYNN | ELIZABETH | ASHLEY
FOLNOVIC | JOHN | I
FONG | IDA
FONSECA | EDUARDO
FORD | DONALD | M
FORTIER | BARBARA | R
FOWLER JAEGER | NICOLE | SIMONE
FOX | MATTHEW | BRUCE
FRANCOISE | ANTOINE | PIERRE
FRASSETTO | FLORIANA
FREEMAN | MARCIA | RAE
FRENETTE | JEAN | LOUIS
FREUDENSTEIN | THOMAS | KLAUS
FRIESEN | PATRICIA | ANN
FRIETS | NICOLE | RACHEL RUI XIU
FRITH | LOIS | MURIEL
FRITH III | HAROLD | H
FURRER | JURG | EUGEN
GABUS-SIKI | MURIEL | LENKE
GAGNON | DARIA | JEANNE THILTGEN
GAITHER | DOROTHEA | JAN
GAITHER | JOHN | MAXWELL
GALANTAY | ROY | T
GALANTI | SERGIO
GALLOWAY | DANIEL | GILBERT
GANTZ | HANS-PETER
GARDNER | PAUL | SAMUEL
GARLOCK | MICHAEL | CHARLES
GAUTSCHI | DANIEL | STEFAN
GAUTSCHI | HANS | ANDERS
GAYNOR | SARA | LYNN LLOYD
GELLING | NICHOLAS | MASSEY
GERBER | CORNELIA | VERA SUSAN
GERMANO | ROBERT | L
GIBBONS | EDWARDS | C
GIBSON | JUDITH | ESTELLE JEFFERSON
GIBSON | LARA | ELIZABETH
GILL | DAYA
GILL | DEBORA | LUANN
GILLEN | AMY | LOUISE
GLADSTONE | DEBORAH | SUSAN
GLASSER | ROBERT | DAVID
GLEASON | ANDREW | JOHN
GLOOR | ADRIAN | MAX
GOBIN | RITA | ROSEMARIE
GODREJ | HORMAZD | NADIR
GODRON | PETER | WINSTON
GOH | SAMUEL | LOUIS
GOLDSMITH | CLAUDIO | MARCELO
GOLINSKI-LAVIGNE | SUSAN | DORIS
GORDON | JULIE | PALEG
GORDON-LENNOX | SUSHILA | LOUISE ODILE
GORE (ROSSAT) | LOUISA | C
GOSLING | PATRICIA | ANN
GOTIANUM | CHRISTOPHER | THOMAS CONSUNJI
GOTIANUN | DAVID | ANDREW CONSUNJI
GOTTLIEB | OLIVER | N
GRAFF | GLENN | ADAM
GRAY | KIM | KUMSUN
GRAY | MICHAEL | HARRIS
GRAYSON | JAMES | HUNTLEY
GREEN | CHRISTOPHER | JOHN
GROETCHEN | ROBERT | ANDREW
GROVES | ALISTAIR | DAVID
GRUNSPAN | DAN
GRUNSPAN | OFRA
GRUTTER | MATTHIAS | MARKUS
GRYLKA-BASCHLIN | SUSANNE | MARGRIT
GU | LEI-LEI
GUDARU | SATISH
GUDJU | EUGENIA
GUERRERO | ANTONIO
GUERRERO | MIGUEL
GUILLOUX | MARCEL
GUMMIN | DALE | ALLEN
GWERDER | MARIE-THERESE | AGNES
GYGER | ANNE | BOYCE RICH
HAAB | FRANK | HELMUT
HAAB | ROSEMARY | MARGARET
HAAS-STUCKI | DANIELLE | ELISABETH
HADORN-VERDESI | PASCALE | ISABELLE
HAERINGER | ELIZABETH | JOHANNA
HAETTENSCHWILLER | THOMAS | MORW
HAGBERG | ROBERT | ERIC
HAIDER | MUHAMMAD | RIZWAN
HAINES | STEPHEN | DECATUR
HAIRSTON | JEMITRA | RENEA
HALE | WARNER | ANTHONY
HALMAN | IRVIN | ALBERTO
HAMANN | ALISON | M
HAMER | DANIEL | MARSHALL
HAMMOND | TAEHYON | PAUL
HAN | JONATHAN | ROBERT
HAN | KENT | SEUNG JOON
HAN | SUK | CHA
HANGELAND | BREDE
HANSEN | LISA | DIANNE
HANSEN | SUZANNE | OBENDORF
HAR | KELVIN | KAI-CHEUNG
HARNESS | MIA | JULIET
HARPER | WILLIAM | FREDERICK
HARRACKSINGH | PATRICIA | HAYMANIE
HARRIS | JOHN | LESLIE
HARRIS | LAURA | DIANE
HARRISON | FLORENCE | ELSIE
HARRISON | SUE | ELLEN
HARTMANN | EVELYN | MARIA
HARVEY | RICHARD | LAVERN
HASLER | ERNA
HAWYER | ALLEN | RICHARD ROBERT
HAYASHI | KAZUICHIRO
HAYASHI | YORIKO
HAYASHI | YUKA
HAYASHI | YUSAKU
HAYES | JONATHAN | THEODORE
HEAD | ROBERT | JAMES
HEFEL | ADRIAN
HEISER | DOUGLAS | A
HEO | JUNG | JA
HEON-LEPAGE | MICHELLE
HERBRECHTSMEIER | MARIA | HENRIETTA
HESS | BENJAMIN | SIMON
HETH-VERGETTE | SHANNON | KEANE
HIGGINS | PAMELA | L
HILDERMAN | RUTH | CHRISTINE
HILL | DEREK | JASON
HILL | LILY | SUSAN
HILTBRUNNER | ANNE | VALERIE
HINSON | VICTORIA | ANN
HOESLI-CAFLISCH | ANTONIA | ERICA
HOLENWEG | CHRISTINE
HOLMVANG | ANNETTE | MARGARETHE
HONG | SO | CHOON
HORWITZ-JOHN | JUDITH
HOUDE | RICHARD | LEO
HSIEH | CHARLES | M
HSU | ERIC
HSU | JOVAN
HSU | MICHAEL | YUAN JEN
HSUAN | YOGI
HU | CHUNG | BEN
HU | CHUNG-LIN
HU | SHU | FEN CONNIE
HUA | JAMES | ZHENGMAO
HUANG | ALLEN | SHIH-KUANG
HUARNG | VICTOR
HUBERT | FREDERICK | HERMANN
HUGHES | TANIA | OLWEN
HUH | CHRISTINE | EUNYOUNG
HUMENUK-BOURKE | NATALIE | HARTMUT
HUNG | FRANKLIN | CHI YEN
HUNG | KEVIN | DINGTENG
HUNG | YAU | KUEN
HUO | ALINA | RENEE
HUONDER | RETO | ERIC
HUTCHINSON | JAMES | H
HUTH | GWENDOLYN | FAYE
HUTTON | FLORA | M
HWANG | ANDREW | BYUNGMIN
HWANG | MIKE | SHU MING
IGARASHI | TOSHIO | MCDONALD
IKHWAN | CALVIN | SANDJAJA
ILLNER | LESLIE | ANN PURCELL
IMFELD | FLORIAN
INDERBITZIN | FABIO | PASCAL
INGEN | ROBERT | VAN
INGRAHAM | TANYA | MADELINE
IP | RONNIE | LAP-CHEUK
IRONS-MIDA | CHERRISE
ISHIKAWA | YUKO
ISHKHANIAN | ARLEN | LEON
ISLER | GUILLAME | LOUIS LUCIEN
IVANOVIC | IVAN | BOZIDAR
IVERSON | KRISTEN | ANDREA
JACINTO | FRANCISCA | AGUINALDO
JACINTO | RAMON | FERNANDO A
JADD | MARK
JAEGER | MICHAEL | A
JAEN | EDUARDO | ENRIQUE
JAGGI | SANDRA
JAMES | PAUL | MAKEIG
JAMES | WILLIAM | JOHN
JANTZI | LUKE | MICHAEL
JAUW | JEFFREY | ANTHONY
JEFFREY | NICOLA | JO ANNE
JEKER | KIMBERLY | ANN
JEN | KRISTIN | TU
JENKINS | JOANNE | LEIGH
JENNI | CARMELA
JENNI | KRISTINA | B
JENSEN | HANS | G.E.
JENSEN | SONJA | B
JETIRAWAT | CHAYOND | JOHNNY
JIANG | QING
JILLANI | ANEES
JILLINGS | LEWIS | GEORGE
JOHNSON | BARRY | DEAN
JOHNSON | CHERYL | SUE
JOHNSON | GRANT | LAVERN
JOHNSON | MICHAEL | ROBERT
JOHNSON | SARAH | MARIE
JOHNSON | THOMAS | CHRISTIAN
JONES | CHARLES | HOWARD
JONES | JUDITH | ANN
JONES | PETER
JONES | PETER | ALBERT
JONGBLOED | JURIAN | EMANUEL
JONUTIS | LARISSA | BARBARA
JOO | SUSAN | NAMKYUNG
JORDAN | BENJAMIN | SIMON
KAIKATI | SOUZAN | MAROF
KALAYOGLU | MUNCI
KANG | GAIL | CHRISTINA
KANG | RICHARD
KANTAKIS | KATHRYN
KAPLAN | VERONICA | MIKI
KARATKUL | VORAPONG
KASS | AHARON | YOSEF
KATO | KENTARO |
KAUFMAN | MIRIAM | ELIZABETH
KAUR | HARVINDER
KEENE | JAMES | THOMAS
KEITH | EVELYN | BARBARA
KELLER | DEBORA | ELISABETH
KELLY | BRIAN | DWIGHT
KELLY | ROGER | PETER
KERN | CAROLINE | DEBRA
KERR-JARRETT | MARK | NEWTON
KESSLER-TROUTMAN | PAMELA | DYER
KEUCHEL | SURAYA
KHADER | FADI
KHALILI | CLAUDIA | FANNY
KIEFER | THOMAS | WERNER
KIESSIG | RICHARD | SCOTT
KIL | HYUNG | KYU
KILLENBERGER | COLLIN | MICHAEL
KIM | BOK | JUN
KIM | CHUNG | JA LIM
KIM | CLARA |
KIM | INGRID | IN SOOK
KIM | JAY
KIM | JISUN
KIM | SLYVIA | SEUNGHI
KIM | SOON | HO CHO
KIM | YUN | HEE
KING | DAPHNE | LYNN
KINMONTH | EAR | HENRY
KINNAIRD | BARRINGTON | WEST
KIRBY | PHYLLIS | ANN
KISHIKAWA | SACHIKO
KISHIKAWA | TSUYOSHI
KITAGAWA | JOHNNY | HIROMU
KIYUNA | ULISON
KLAZEMA | MICHAEL | HENRY
KNOBEL | JANINE
KNOWLES | GIOVANNA | VOUCH
KO TANG | GRACE | SAU-CHEE
KOHLMEIER | GUY | PAUL
KOKS | MICHAEL | A
KOLJONEN | PAUL | AARNE
KONG | MAURICE | C
KONNO | NORIYO |
KONRAD | STEFAN
KOOIJMANS | SEBASTIAN
KORNER | KATHLEEN | MAY
KOSS | ROBERT | JOSHUA
KOSSOW | KATHRYN | JOAN
KOTHARI | SURENDRA
KOTLINSKI | ALEXANDRE | MACIEJ
KUNDIG | MARIANNE
KUNIMITSU | MASANORI
KUNZI | ANDREAS | MARTIN
KUO | HENG-YEH | SAMI
KUPSH | CHRISTINE | CLAIRE
KUSUMI | JOHN | PATRICK
KVEIM | CEDRIC | MORTEN
KVEIM | MATEO | JUAN MORTEN
KWAK | JOOEUN
KWAN | JONATHAN | TAI HIN
KWOK | AMY
KWOK | ANN
KWON | GRACE | YEONSUK
KWONG | KELVIN | CHI WAI
KYRIAKOPOULOS | HARALAMBOS
LAI | ARTHUR | YUE MING
LAI | CHARMAINE | S-Y
LAI | PAOING | ESTHER
LAI | SHYH-SHIUN | WILLIE
LAI | THEODORE | SHUN
LAI | WILLIAM
LAKHANI | ANUSHKA | ZULFIQAR
LAM | TIFFANY | HIU-YAN
LANCTOT | PAUL | JOSEPH
LANDS | MATTHEW | MONROE
LANE | JENNIFER | JILL
LANE | SONYA
LANG MAHLSTEIN | VERENA | KATHARINA SOFIE
LAPKIN | THEODORE | DAVID
LAPOINTE | STEVEN | PIERRE
LARCHE | LEONARD | JEROME
LASHKARI | SAUMYA
LAU | RAYMOND
LAUBER | YVONNE | WOODY ALFREDA JOSIANE
LAUDENBACH | MICHELE | JOHANNA
LAVENDER | JASON | BRANCH
LAVIGNE | ERIC | MARC
LAW | VINCENT | KAI MING
LAWTON | ERIKA | BARBRL
LE GUERN | MARIE | FRANCOISE
LE MOND | GABRIELE | CHARLOTTE
LEASURE | SARA | LOUISE
LEDEE | RALPH | EDOUARD
LEE | ALEX | SHIU MING
LEE | ALVIN |
LEE | ANNE | TERESA
LEE | BRIAN |
LEE | CHIH | CHING
LEE | CHIN-SHAN | ROBERT
LEE | CHUN | YING
LEE | DANIEL | ADAM
LEE | DEBORAH | ANNE HONG LAN
LEE | EUNJOO
LEE | JASON | WONHO
LEE | JONAN | CHUN YIN
LEE | JOSEPH | CHUEN KWUN
LEE | KEVIN
LEE | LILLIAN | CHIU-YING
LEE | MIRANDA | LU-C
LEE | SEE | MAN
LEE | SHIS | I
LEE | WAI | TING
LEE | YEE | WAH CHOY
LEE | YENA
LEE | YOU-MI | CHO
LEES | KATHARINE | ISABEL
LEGGOTT | NICOLE | MARIE
LEIGH | CHARLES | PAUL HENRY
LEONG | MARJORIE | ELIZABETH LEE
LEPAGE | SOPHIE | CAROLINE
LESOWSKI | PHILLIP | BRUCE
LEUNG | JESSICA | YIN THING
LI | BIN | SHENG
LI | FENGYUAN
LI | ROUZHI | WENG
LI | SEUT | MAN TERRISA CHUNG
LI | VIVIAN | WAN MAN
LIAN | WILLIAM
LIANG | KAE-JYE
LICARI | CHRISTOPHER | E
LIE-A-CHEONG | KRYSTAL
LIEBE-HARKORT | MARIE | LOUISE
LIEU | LEVY | HONGCHIEN
LIEU | SHIRLEY
LILLEY | KAITLIN | LEE
LIM | AGNES | XIN-LI
LIM | JUSTIN | DAVID XIAN-AN
LIM | NICOLE | SHAO-YUEN
LIM | RYAN | OLIVER
LIM | SIEW | HUI TAY
LIN | ALEXANDER
LIN | ANTHONY
LIN | CHIEN-YU
LIN | FLORIA | KAR KAY
LIN | JACKIE | C
LIN | JACKSON
LIN | JOU | MIN
LIN | KATHERINE | NN
LIN | LI-CHING
LIN | LILLIAN | LING-CHU WANG
LIN | LIN
LIN | LOUIS | ADAM
LIN | MICHELLE | C
LIN | NELSON
LIN | RICKY
LIN | SHU-CHU
LIN | TOMMY
LINDER | DOMINIC | ANTHONY
LINDSEY | SCOTT | WAYNE
LING | YA-HUI | YAE
LINTELL | SUSAN
LION | ALEX | MEI-TIAN
LIU | AMY | QIAN MEI
LIU | DANIEL | KEYUAN
LIU | DSIH | CHI
LIU | JUN
LIU | MARGARET | PEI-KUN
LIU | XING
LLOYD | HEIDI | HOFFMAN
LO | MONA | I-RU
LOCKWOOD | DEBORAH | MARY
LOCKWOOD | EMMA | JACQUELINE LOUISE
LOERTSCHER | ERIKA | ANNA
LOFF | CHRISTINE | DEIRDRE
LOPEZ | JEFFREY | KENNETH
LOPEZ | SUSAN | JENNIFER
LOUGH | SANDRA | LEE
LU | TONY | YU-TIN
LUCAS | GEORGE | FREDERICK
LUDWIG | HENRIETTE | LYDIA
LUDZIK | RYAN | KIRK
LUGINBUEHL | KIRSTEN | ANN
LUGINBUEHL | MARIE | ELAINE
LUK | FRANCIS
LUTHY | PETER | WILLIAM
MA | VICTOR | WEI-CHIEN
MA | XIAOWEI
MAALOUF | NICHOLAS | RAYMOND
MACDONALD | BRUCE | ROBERT
MACK | JENNIFER | VICTORIA
MACTAGGART | CATHERINE | DEVERE
MADHI | OMAR | HAMAD ABDULAZIZ
MADORIA | CHRISTOPHER | JON
MAGNUSON | BERNADENE | ANN
MAKAR | GAIL | ANNE
MALAMATENIOS-WILLIAMS | KAREN | DARLENE
MALDONADO REYES | DANIEL | HILMAR
MALLARD | GREGOIRE | F
MAN | CHARMAINE | YEE-SHUM
MANEE | ABDALLAH | MOHAMMED
MANN | ROSS | DUNCAN
MANTALVANOS | CHRISTINA
MANZUR | GLADYS | REGINA
MARCH, JR | NOEL | CLINTON
MARKUS | ALEXANDER | RICHARD
MARSHALL | PETER | W
MARTELLY (NEE SAINT-REMY) | SOPHIA | ANN
MARTIN | ALISON | LYDIA
MARTIN | EUNICE | ANDREWS
MARTIN | JOSEPH | THOMAS
MARTINEZ | MARY | P
MARX | MARY | KATHERINE
MASAFRET | LILLIAN | LOUISE
MASCOLO | FLORA | MARIA
MATSON | SETH | N
MATTE | RUTH | SHIRLEY
MATTER | STEFANIE
MATTMANN | EUGEN | ANTON
MAUPIN | ANIKA | SONYA
MAURER | MARSHA | MARINA
MC CALLA | ARTHUR | HAROLD
MC LEAN | ERIN | DIANE
MCAULEY | ELSPETH | JOAN
MCBRIDE | AMBER | DAWN
MCBURNEY | MARGARET | NICOLE
MCCLENAHAN | LISA | ANN
MCDOUGALL | SALLY | KATHARINE
MCFADDEN | DEBORAH | ELIZABETH
MCGEOUGH | CAROLE | ELAINE
MCGEOUGH-IBSEN | COLLEEN | M
MCLACHLAN | CRAIG | D
MCMAHON | GLENN | DAVID
MEECH | SUSAN | CROCKETT
MEIER | JENNIFER | SUSAN
MEIER-SCHUMACHER | BEATA | MARIA
MEIXNER | YVONNE | REGULA
MELANSON | BERNARD | LOUIS
MENA | JAVIER | IGNACIO
MENCKE | PATRICIA | E
MERCIER | JEAN | CLAUDE
MERRILL | STEVEN | RICHARD
METAXAS | STEFAN | GEORGE SPYROS
METTLER | MARTINE | HOLZER
MEYER | ALBERT | MARK
MEYER | MARIANNE
MEYER | PATRICIA | HEINE
MIDA, JR | KASIO | KEMBO
MIELKE | PETER | FRITZ
MIHALIK | JULIA | HELEN
MIJNSSEN | ELIZABETH | FRANCOISE
MILES | DAVID | HOWARD
MILLER | MELANIE | MARIA
MILLS | BARBARA | CRANSTON
MILLS | CAROLYN | ELIZABETH
MILSON | ALEXANDER
MINAMI | SHIGEO
MINAMI | YOSHIKO
MISHRA (NEE SAXENA) | ASHE | RANI
MITCHELL | KENNETH | NEWTON
MITCHELL | KEVIN | ANDREW
MITCHELL | SUSAN | JANE
MIZRACHI | MICHAEL
MIZUMOTO | MASAFUMI
MOHAMMAD | NEDA | ABDULRADHA
MOK | CHARLES | HENRY LAI SHUN
MOK | CHARLOTTE
MOLNAR | CATHARINE | MACDONALD
MONAPPA | ADITYA
MONEM | MOHAMMED | R
MONISH | MICHELLE | YVONNE
MONISH | NICHOLLE | REBECCA
MONTAGNE | DAVID | MARC
MOORE | ELIZABETH | KAY
MOORE | MELANIE | ANN
MOORE | VICTORIA | ELLEN
MORAIS | PATRICK | DANIEL
MORAIS | PILAR | DANIELLE
MORE | ILANIT
MOUGRIDIS | POLYMNIA | DELILAH
MOULDEY | PETER | GORDON
MOURGINAKIS | HARRIET
MOY | SEFTON
MUCHENBERGER | DANIELA
MUEHLHAEUSER | JENS | KURT
MUELLER | SHELLY | ELISABETH
MUFF | JASPER | ANDREAS
MUFF | JENNIFER | BREWSTER
MUFF | OLIVER | PATRICK
MUGGERIDGE (NEE PLEASANT) | JESSICA | LYNN
MULLER | LORENZ | WILFRIED
MULLER | PETER | JOHN
MUN | BENNY
MUNSON-KIESSIG | LYNNE
MURPHY | EDNA | HELEN
MURRAY | MICHELLE | PAIGE
MYERS | RICHARD | SCOTT
NABER | JASMIN | LBRAHIM
NASU | AOI | JUDY
NAYLOR | RUTH | DIANNE
NEUBAUER | LUKAS | CHRISTOP JOHANN
NGIAM | JU-REN
NOORRUDDIN | IDRIS | NOMAN
NOYER | DELANEY | REEVES
OBERLANDER | TIMOTHY | FREDERICK ALBERT
O'CONNOR | COURTNEY | LYN
ODERMATT | CLAUDIUS | BRUNO
OETTERLI | JUERG | ERIC
OETTLI | SYLVIA | THERESIA
OFFMAN | CRAIG
OGAWA | KOJI
OHARA | YOKO
OHMART | RONALD | JAMES
OIEN | JON | ANDERS
OLANDER | VIGINIA | LOUISE
OLOFSSON | DIANA | SOPHIE
OLSON-THORNE | NATASHA | SHANGWE
ONISHI | BOB
OO | THANT | ZIN
OPHEK | DAVID | JEREMIAH
ORR | ANDREA | L
ORTIZ-VILCHES | GERMAINE | DENEREAZ
OSRANEK | MARTIN
OTT | CHANTAL | MARIA
OTTO | MARTIN | HEINRICH
OTTOSEN | HEIKO | CHARLES HANS
OWEN | PETER | SCOTT
OWENS | MARTHA | LORRAINE
OXTOBY | MICHELLE | CHEN-SIEN-YEE
OZBURN | JACQUELYN | SEIRA
PADLEY | DANUTA | MARY ALDONA
PAGNAMENTA | ROBIN | ALEXANDER
PAI | SHYI | CHYI
PALAYEW | MARK | DAVID
PALLAY | DOMINIQUE | FRANCOISE
PALMER | LAURENCE | JAMES
PALMER | THOMAS | D
PAN | SHEAU-FANG
PANG | MEGAN | SZE-QI
PAPANNAREDDY | RAJAPPA
PAPAZOGLOU | IOANNA | NICHOLAS
PAPAZOGLOU | THEODORE | N
PARADISE | GEORGE | LEONARD
PARK | JAMES | JI-HONG
PARK | JUNE | KYU
PARK | SUNGHEE | PHOEBE
PASQUALONI | ATHENA | AMADA
PASSEMARD | ANTONIN | JEAN-FRANCOIS
PATEL | RUCHIT | SAMIR
PAYNE | IRINA | EDWARDOVNA
PEARMAN | RICHARD | SCOTT
PEASLEY | JOYCELYN | M
PEKAR | KEVIN | PAUL
PEMBERTON | PETRA | KATHRYN
PENE | CLEMENCE | M
PENGILLEY | KRISTINA | MONICA P
PENNELL | SCOTT | WHITMAN
PEREIRA | JAIME | MANUEL
PEREZ | LEVY | DE VERA
PERRIER | CLEMENTINE | MARJORIE AUDREY
PETRUZZELLO | ANGELO | VINCENT
PETTY | BARBARA | ANN
PHILIPPE | CAROLINE | CHANTAL PAULETTE
PHILLIPS | ALAN
PHILLIPS | PETER | J
PIERSON | JAMES
PINTO-DUSCHINSKY | DAVID | J
PIRO | DAGMAR
PISCIOTTA | LAUREN | CLARE
POLAND | PETER | JOSEPH
POLEG-FALK | MATITYAHU
POLONYI | JANOS
POON | GILBERT | MING KEI
POST | FAITH | S
POTHIKAMJORN | VALIDA
POWELL | MATTHEW | HUME
PRESCOTT-HAAR | LESLIE | EDEN
PRETRE | TATIANA | LAURA MARIA
PROULX | JACQUELINE
PRUITT | DAVID
PUGACH | ELINA
PULLEN | NANCY | ROWZEE (LEE)
PUTMAN | MICHAEL | ALLAN
PUTSCH | STEPHANIE
QUADRI | DIANA | LAURA
QUINN | SANDRA
QUINTEROS | BROOKE | MALLORY
RACY | MALEK | MALEK
RADKE | CAROLINE
RADKE | IRIS
RADKE | ROGER
RAICHEV | ALEXANDER
RAJA | RAMKUMAR
RAJAPPA | MANJULA
RAMIREZ, JR | ANDRES | ALFONSO
RANA | KISHOR
RANDALL | KELLY | TAKI
RANDOLPH | LIBBY | A
RANGARAJAN | RAGHAVAN
RANKIN | CAROL | ANN
RANKIN | ROBERT | ROY
RASMUSSEN | DEREK | JACK
RASMUSSEN | KIM | DEBBIE
RATAJ | DEJAN
RAY | MICHAEL | WILLIAM
RAYBOULD | JOANNA | MARY
REA | SHARLEEN | MARIE
REAGEN | MARGARET | ANN
REDDY | KRISHNA | GUNUPATI VENKATA
REID | MATTHEW | ERIC
REIMANN | TIFFANY | ROBIN
REIMER | LADONNA | ROSE
RENDALL | MARY | DEBEVOISE
REUNIS | RACHEL | MARIE
RICHARD | LAWRENCE | HECTOR
RICHARDS | SARAH | MARGUERITE
RICHARDSON | MEGAN | LLOYD
RICHARDSON | WENDY | MARIAN
RICHMAN | ERIC | CHRISTOPHER
RILKOFF | LORI | ANNE
RIVERA | EARNEST | JASON PAJE
RIZWAN | ALIYA
ROBBA-HOMEYER | MARIE | CHRISTINE VIVIANE
ROBERTS | DELIA | BETH
ROETHLISBERGER | MARC | HENRI
ROGALA | ELAINE | LOUISE
ROHRER | RACHEL | MARISSA
ROHRER | SEBASTIAN | PAUL
ROLFSON | CORDELL | BROWNIE
ROMANOWSKI | AARON | ALLEN
ROMMERSKIRCH | ANKE
ROSIERE | PASCALE | PATRICIA
ROSOM | GLENDA
ROUSE | FENELLA
ROUSSELOT | SUSAN
ROY | KEVIN
RUEESCH | FERDINAND | MARIO
RUHFUS | JENNIFER | CHRISTINA
RUTHVEN | ROSEMARY | BERNADETTE
RUTISHAUSER | LINDA | SUSAN
SAGALINA | NINA
SAGHROUNI | SELENA | KASSANDRA
SAILER-KLINE | JANE | ELAINE
SAITO | KENGO
SALATHE | SABINE | ELIZABETH
SALLAHUDDIN | NIK | FARIS NIK
SANDBERG | TONI | L
SANDEL-DE LABOUCHERE | CHRISTINA | ANNA
SANDERS | JAMES | ALEXANDER
SANDMEIER | MICHELLE | SHEILA
SARCON | THOMAS | ALBERT
SARDO | CHRISTOPHER | ANTONIO
SAUTIER BRECHET | YVONNE | CHRISTINE
SAVOIR | YVES | ALEXANDRE ALFRED
SAWHNEY | MADHULEKHA
SAWYER | WILLIAM | DONALD MACKAY
SCHAAD | FELIX | JAKOB DOMINIK
SCHAAD | KARIN | ELISABETH
SCHAD | HANA | LYNN
SCHAIT | DOMINIE
SCHALK | STEPHEN | PATRICK
SCHALLER | SARA | E
SCHAUB | LUKAS | PETER
SCHIRMER | GREGORY | KARL
SCHMID | ANDREAS | HEINRICH
SCHMID | SYLVIA | KAY
SCHMID-BERNHEIM | DENISE | LEAH
SCHMIDLIN | RICARDO
SCHMIDT | SYBILLE | MARGARET
SCHNUERIGER | MARY | PATRICIA
SCHOCH | KAREN | NICOLE
SCHOLEFIELD | RICHARD | CHARLES
SCHONING | ISABELLA | M
SCHREMPF | SUSAN | MARGARET
SCHULER | PATRICIA | ANN
SCHWEIGHAUSER | MARK | WILLIAM
SCLAR | ERIC | LEE
SCOTT | HEIDI | ANN
SEERVELD | ANYA | RUTH
SEILER-STOCKER | CHRISTA | MARIA
SEITZ | PETER | MICHAEL
SELAIMAN | YAZEED | ABDULRAHMAN
SHANEOR | STEVEN | STUART
SHARP | JODY | LYN
SHARPE | ROBERT | JOSEPF
SHIMIZU | TOSHI
SHIMIZU | YUSUKE
SHINTANI | ALYSSA
SHOFNER | TAMARA | LYNN CASEY
SICRE | PHILIP | GABRIEL
SIDER | LURA | MAE
SIDER | ROBERT | D
SIEGEL-VANDERHOOF | ANN | CATHY
SIMARD | JOYCE | MARIE
SIMON | ETHAN | BRET
SINGH | MADHULIKA
SIU | KAI-YEUNG | SUNNY
SKIERKA | JULIANE | ANTJE
SKOG | ERIK | CRISTIAN
SLAATS | BRIGITTE | ELISABETH
SLEGERS | EDNA | DOROTHEA
SMITH | ALLAN | MONTGOMERY
SMITH | CHRISTOPHER | TOBIAS
SMITH | GUDRUN
SMITH | MATTHEW | STUART
SO | KEVIN | CHI-HENG
SO | YAU | FAI
SOBOCINSKI | HANNAH | MARIE
SOBOTKA | SYDNEY | B
SOERPEBOEL | ERLAND
SOH | ZI | YUAN
SOLIOZ-FEHLMANN | CATHERINE | ANNE
SOLOMAN | CAROL | ANN
SOMMER | KATRIN
SOMMER | MARC | JAY
SONG | QIZHONG
SONNTAG | CHIARA | M
SOO | LEON | ANTHONY
SOONG | HSIN-JUNG | SHIRLEY
SOPPITT | PETER | R
SOVA | DANIEL | MICHAEL
SPALDING | ANNE-MARIE | CAMERON
SPALDING, JR | WILLIAM | RICHARDSON
SPARKE | KEITH | GEOFFREY TREVOR
SPARKS | JOHN | EDWARD
SPARTI | DANIEL | LUCA
SPENCER | NICOLE | MARIE
SPITZNAGEL | JOHN | T
SPRAKEL | DIRK | KARL
SPURK | JOSEPH | HUBERT
SPURLING | GILES | DUDLEY CURTIS
STAEHELIN | DAVID | GERARD
STAHEL | MARTIN | DANIEL
STEENMAN | BARTHOLOMEUS | JOHANNES PAULUS
STEPHEN | JAMES | DUNCAN
STERLING | ANTOINE
STERNBERG | GIL | ISRAEL
STERNBUCH | BERNARD
STOLESON | MARK | ALAN
STORZ | PETER | KARL
STOVER | JOHN | FRIEDRICH
STRAUSS | CLAUDIA | G
STREATFEILD | JANE | FRANKLIN
STUDER-KUNZ | SUZANNE | VIVIAN
SU | IRENE | HUA
SU | LINDA | LIANG YI
SU | PAUL
SUAREZ, JR | ISAAC
SUDAIRY | AZZAH | NAIF
SUGAWARA | REIKO
SULE | ANNE
SUMAR | ANDRES | EDUARDO
SUNG | REGINA | SEOYOUNG
SVENSON | STUART | KENDALL
SYMONS-KORDTS | STACIE | LYNN
SYNON | MARY | ELLEN
TABBARAH | ZUHAYR | A
TAHLAK | ABDUL | RAHMAN AHMAD
TAHLAK | SAFIYA | AHMAD
TAK | YOUNG | JUN
TAKAO | YASUMITSU
TAKASAKI | KAORU
TAM | CHI MEI | TIFFANY
TAM | KENNETH | KIT MAN
TAM | MI | YUK
TAN | COLLWYN | CHEN
TAN | JASON | SHAW TSE
TAN | LUCIO | KHAO
TANG | CHAO
TANG | CLIFTON
TANG | SHERLOCK | TZE LOK
TANG | XIAODONG
TANIMURA | TAKUMA
TAQI | MOHAMMED | ALI
TASH | ALIDAD | FAR
TAYLOR | CANDIS | CHRISTA
TEEVIN | JOHN | DUNCAN
TEMPLE-MACK | LINDSAY | ERIN
TEO | NICHOLAS | WEI JIE
THAM | STEPHANIE | KAR WAI
THOMPSON | ASTRID
THOMPSON | LISA | JANE MARIE
THURNHERR | ERIK | JOHAN
TIBERIA | AMY | LEE
TIERNEY | CHRISTINE | MARY
TILBURY | ALICE | JEANINE NINA
TILBURY | LOUISE | ANNIE JULIETTE
TINKLEPAUGH | JAMIE | JOHN
TONG | FRANKLIN | FUK-KAY
TORIELLO | JOSE | ANTONIO
TOTHONG | POLSAK
TRABER | MARK | PATRICK
TROST | BENEDIKT | KARL WILLY
TROST | WILHELM | ALEXANDER STEPHEN
TROTT | FRANCES | JANE
TRUSSELL | KATHY | L
TSAO | HUI-WEN
TSIEN | MARTHA | CHANG
TSUI | DAVID
TSUI | PAUL | YEUNG-ON
TUCKER | MARY | LOUISE JOAN
TUTEL-RHOMBERG | ARLETTE | SANDRA
TWIGGE-MOLECEY | ANNE
TYRELL | CHEN
UENISHI | TATEO
UNG | LEONARD | KYLIAN
UNGARELLI | NANCY | LYNN
UTHAIMEEN | MANAF | YOUSEF
UTLEY | HARRIET | CHRISTINE
VACHON | REJEAN | EPHREM
VALENCIA | VERLONN | PING BEN
VAN BAAR | JEFFREY | CHRISTOPHER
VAN DEN SCHRIECK | GENEVIEVE | MARTHE
VAN DER ELST | AURELIE | KARIL ARNAUD M. G.
VAN DER STARRE | PIETER
VAN DRESSER | STEVEN | LEON
VAN HASSELT | VIRGINIA | LYNN
VAN PANHUYS | PIETER | ALLARD
VANDAMME | ANJEL | ANNE
VANDERWELL | IRENE | MARIE FLORENCE
VARALLO | LUCA
VAUDENS | MICHELE | CHARLOTTE
VEGA | SYLVIA
VEN | HARFUN
VENIAMIS | CLEOPATRA
VERDUYN | KELLY | REBECCA
VILLINGER | INGRID | HUBERTA
VIOLLIER | SARAH | SIMIN
VON SAMSON-HIMMELSTJERNA | HELLA
VUILLIOMENET-SZURAN | CORINA | CHRISTINE
VYBIRAL | PAMELA-ROSE | GABRIELA
WALLACE | ERIC | W
WALSH | PENELOPE | JANE
WALZ | GERHARD | SIEGFRIED
WALZ | JESSICA
WANEY | SIMRAN
WANG | ALEX
WANG | CHIH-HUI
WANG | EDWARD | DAH-RENN
WANG | IRIS | J
WANG | MEIYING
WANG | PEI
WANG | STEVEN | DASONG
WANG | VINCENT | WOEI JYE
WANG | YUN | WEN
WARNER | DAVID | REESE
WARNER | ERIC | DAVID
WARREN | CHRISTINA
WARSHAUER | GILLIAN
WASNEY | MARGARET | DIANE
WATERS | MARK | H
WATLER | STEPHEN | ELSWORTH
WATSON | CHRISTINE | BURNS
WATSON | EDWARD | JOHN RICHARD
WAVRE | SYLVIE | LOUISE
WEBER | RICHARD | ROBERT
WEE | MICHELLE | ANNE WEN-YEANG
WEGLER | MARGARET | ELLEN
WEI | GABRIELLE
WEI | KRISTINE | AMY
WEIBEL | JONATHONJONATHAN | DYLAN
WEIHER | SIMON | ALEXANDER
WEINACHT | FELIX
WEIR-WAGNER | JACQUELINE | LEONA
WELCH | TERRY | DENIS
WENGER | JOAN | SHARON
WENK | MICHAEL
WESTRA-VAN DER PLAS | JOAN
WEVRICK | DANIEL
WHITE | ALLAN | THOMAS
WHITE | KENNETH | ROY
WHITEHEAD | DENISE | LOUISE
WHITEHOUSE-VAUX | JENNIFER | PAMELA
WICHMANN | MARYALICE | EDITH
WICKI | THOMAS | MARTIN
WIDMER | CHRISTOPHER | MARC
WILDY | SARAH | ELISABETH
WILER | CELCILE | LISELOTTE
WILLIAMS | FAYVAL | SHIRLEY
WILLIAMSON | TARA | MICHELE
WILSON | WALTON | EVERETT
WINCHELL | JAMES | STERLING
WINFIELD | MARLENE | BLAUER
WINSON | CHRISTIAN | GUSTAV
WISMER | ALBERT | PAUL
WITTWER | SONDRA | CLAIRE
WOHLERS | FLORIAN
WOHNHAS | STEFAN
WOLFE | JOSHUA | D
WONG | CHLOE | LI YI
WONG | CONSTANCE | C
WONG | HAI-HUA | ADRIANA
WONG | HUK | SUAN
WONG | NAI | PANG
WONG | SHEZAM
WONG | WILSON
WONG | WING | WAH LEUNG
WOO | CHERYL | HOI-LAM
WORLEY | KEVIN | JOHN
WORTHINGTON | NATHANIEL | J
WU | CHU
WU | ELBERT | HSING-EN
WU | GAY | YIING-JYE
WU | PHILIP | HSIN-HUNG
WU | SUSAN | CHIA-LY
WU | ZHENDONG
WUEBBLES | RYAN | KEITH
WYSER | PETER | HEINRICH
WYSS | MARC | SEQUOIA
XIE | XINCHENG
YAM | KAM | CHAN
YAM | MICHELLE
YANG | ANJA
YANG | CHEN | NING
YANG | JENNIFER | YUNSHIUAN
YANG | PIN-CHUN | BRENDA
YANG | WESLEY | YO
YANG | WOONG-CHUL
YAO | ANDREW | CHI-CHIH
YAO | FRANCES | FOONG
YAO | STANLEY | H K
YATAGANA | MARIA | GABRIELLA
YEH | LIN
YEN | SAM
YEUNG | GEORGE
YON | EUNG | JIN
YUASA | MOTOKO
YUEN | SILAS | TAK SHUN
YUN | MEE | HEE
YUNG | TAK | WING
YUNG | WING | WA
ZADEH | SYLVIA | PERLA
ZAHNER | ANGELIKA
ZAID | NAJEM | ABDULLAH
ZAISS | DOREEN | HENRA
ZAKS | ANN
ZARAH | FAISAL | FAHAD
ZASLOVE | ANDREJ | SANT
ZAVERUCHA | MARINA
ZAVERUCHA | MAYA
ZEE | JINLY
ZEE | JINSEN
ZEENDER | THOMAS | ERNST
ZEHNDER | COLIN | PHILIP
ZHANG | HAO
ZIEGLER | MICHELLE | HOPE
ZINGGELER | RENE
ZINGGELER FUHRER | HEIDI
ZURFLUH | LOUIS | MARTIN
ZWEIFEL | DAVID | PAUL

Dated: October 20, 2015.
Maureen Manieri,
Manager Classification Team 82413, Examinations Operations—Philadelphia Compliance Services.

[FR Doc. 2015-27281 Filed 10-26-15; 8:45 am]

BILLING CODE 4830-01-P